DEPARTMENT OF ENERGY

Federal Energy Regulatory Commission

Notice of Application for Amendment of License and Soliciting Comments, Motions To Intervene, and Protests

October 27, 2005.

Take notice that the following hydroelectric application has been filed with the Commission and is available for public inspection:

a. Application Type: Amendment of license to revise Article 401 of the license.

b. Project No.: 2061-030.

c. Date Filed: October 13, 2005.

d. Applicant: Idaho Power Company.

e. Name of Project: Lower Salmon Falls Project.

f. Location: The Project is located on the Snake River in Gooding, and Twin Falls Counties in Idaho. The project occupies Federal lands managed by the Bureau of Land Management and lands within the Hagerman Fossil Beds National Monument managed by National Park Service.

g. Filed Pursuant to: Federal Power Act, 16 U.S.C. 791a-825r.

h. Applicant Contact: Nathaniel F. Gardener, Idaho Power Company, P.O. Box 70, Boise, Idaho 83707. Tel: (208) 388-2550.

i. FERC Contact: Any questions on this notice should be addressed to Vedula Sarma at (202) 502-6190 or vedula.sarma@ferc.gov.

j. Deadline for filing comments and/or motions: November 28, 2005.

k. Description of Filing: Idaho Power Company proposes to amend Article 401 by deleting the following paragraph:

“When operating in a run-of-river mode, the licensee shall at all times maintain the project reservoir at full pool while acting to minimize the fluctuation of the reservoir surface elevation by maintaining a discharge from the project so that at any point in time, flows as measured immediately downstream from the project tailrace approximate the sum of inflows to the project reservoir.”

Idaho Power proposes to replace the deleted paragraph with the following paragraph:

“In operating in a run-of-river mode, the licensee shall use a headwater control scheme that shall at all times maintain the project reservoir surface elevation at or above an elevation of 2797.0 feet mean sea level (msl), one foot feet below the normal full pool elevation of 2798.0 feet msl, as measured at the dam. The intent of the headwater control scheme shall be to ensure that the flows as measured immediately downstream from the project tailrace approximate the flows into the project reservoir, as well as minimize large tailwater elevation fluctuations that can occur with trying to maintain a precise headwater elevation.”

l. Locations of Applications: A copy of the application is available for inspection and reproduction at the Commission in the Public Reference Room, located at 888 First Street NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call toll-free 1-866-208-3676 or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers. All documents (original and eight copies) should be filed with: Magalie R. Salas, Secretary, Federal Energy Regulatory Commission, 888 First Street, NE., Washington, DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E5-6071 Filed 11-2-05; 8:45 am]

BILLING CODE 6717-01-P